DEPARTMENT OF ENERGY

Federal Energy Regulatory Commission

[Project No. 2000-010—New York]

New York Power Authority; Notice Extending Deadline for Filing Requests for Additional Studies and Preliminary Comments, Recommendations, Terms and Conditions, and Prescriptions

September 29, 2000.

On August 18, 2000, the U.S. Department of the Interior requested an extension of time for filing Additional Study Requests and Preliminary Comments, Recommendations, Terms and Conditions, and Prescriptions for the St. Lawrence-FDR Power Project, located on the St. Lawrence River, in St. Lawrence County, New York.

In response, the Commission, by notice of September 1, 2000, granted an extension of time, to September 29, 2000, for the filing of Additional Study Requests and Preliminary Comments, Recommendations, Terms and Conditions, and Prescriptions.

A Cooperative Consultation Process (CCP) Team was established for relicensing of the St. Lawrence-FDR Power Project, which was identified in the Notice of Memorandum of Understanding, Formation of the Cooperative Consultation Process Team, and Initiation of Scoping Process Associated with Relicensing the St. Lawrence-FDR Power Project, issued May 2, 1996 and found in the Federal Register dated May 8, 1996, Volume 61, No. 90, on page 20813.

By letter dated September 28, 2000, the New York Power Authority renewed the request for an extension of time in which to comment based on continued settlement negotiations. The goal of the CCP Team is to resolve issues during pre-filing consultation in a collaborative manner so that the Commission may accelerate the environmental review process and the Licensee may receive expedited review of the filed license application.

In this instance, we recognize the benefit to the CCP Team resolving as many issues as possible before they file their Additional Study Requests and Preliminary Comments, Recommendations, Terms and Conditions, and Prescriptions. We will, therefore, pursuant to Rule 2008 of the Commission's Rules of Practice and Procedure,¹ extend the deadline for filing Additional Study Requests and Preliminary Comments, Recommendations, Terms and Conditions, and Prescriptions to October 6, 2000.

¹ 18 CFR 385.2008.

All comments should be sent to: Mr. John Suloway, New York Power Authority, 123 Main Street, White Plains, NY 10601, with one copy filed with the Commission at: David P. Boergers, Secretary, Federal Energy Regulatory Commission, 888 First Street, Washington, DC 20426. The copy filed with the Commission must: (1) Bear in all capital letters the title “Additional Study Requests,” “Preliminary Comments,” “Preliminary Recommendations,” “Preliminary Terms and Conditions,” or “Preliminary Prescriptions;” (2) set forth in the heading the name of the applicant and the project name and number; and (3) furnish the name, address, and telephone number of the person submitting the filing.

The Commission's contact for the St. Lawrence-FDR Power Project is Dr. Jennifer Hill at (202) 219-2797 or E-mail: Jennifer.Hill@FERC.FED.US.

Linwood A. Watson, Jr.,
Acting Secretary.

[FR Doc. 00-25507 Filed 10-4-00; 8:45 am]

BILLING CODE 6717-01-M